DEPARTMENT OF COMMERCE

National Oceanic and Atmospheric Administration

50 CFR Part 600

[I.D. 091800I]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue EFPs to conduct experimental fishing operations otherwise restricted by the regulations governing the fisheries of the Northeastern United States. The New England Aquarium Conservation Department (NEACD) requested an EFP to conduct a Juvenile Lobster Trap Survey in the Gulf of Maine (Juvenile Lobster Trap Survey). This recruitment survey could, if geographically comprehensive, serve as an indicator for stock status and could provide stock size estimates for subsequent years. Regulations under Magnuson-Stevens Fishery Conservation and Management Act provisions require publication of this notification to provide interested parties the opportunity to comment on the proposed experimental fisheries.

DATES: Comments on this notice must be received by October 12, 2000.

ADDRESSES: Written comments should be sent to Patricia A. Kurkul, Regional Administrator, NMFS, Northeast Regional Office, 1 Blackburn Drive, Gloucester, MA 01930. Mark the outside of the envelope “Comments on the EFP Proposal.” Comments may also be sent via facisimile (fax) to (978) 281-9135. Comments will not be accepted if submitted via e-mail or the Internet.

FOR FURTHER INFORMATION CONTACT: Bonnie Van Pelt, Fishery Management Specialist, 978-281-9244.

SUPPLEMENTARY INFORMATION: The Atlantic States Marine Fisheries Commission has identified the need for regional baseline information on the American lobster (Homarus americanus) resource as a priority item in its most recent list of research needs for the lobster fishery. Data on juvenile lobster abundance is critical for effective and pro-active management of this valuable species.

The framework of this survey was developed by the Canadian Department of Fisheries and Oceans Science Branch for its Gulf of St. Lawrence Fisheries Management Region. Its program has been implemented and can be readily adapted to the Gulf of Maine (GOM). Canadian response to this survey has been extremely supportive since this could lead to transboundary sampling projects in the future, where Canadian and U.S. fishermen would conduct a survey throughout the entire GOM.

Existing survey programs, whether they be fishery-dependent or independent, are limited and prevent resource managers from obtaining a holistic view of growth and recruitment throughout the dynamic GOM ecosystem. In addition, the data are housed at various institutions and entered in a variety of formats, impeding accessibility and/or transferability to resource managers or interest groups in the region.

These gaps in data collection were identified at the 1999 U.S./Canadian Lobster Summit III in Rockland, ME, where over 200 fishermen, scientists, and resource managers met to define a strategy to increase the understanding of lobster stock status through enhanced industry involvement. The forum participants agreed that there is a need to improve the current assessment and management process through collaboration between industry and scientists. The recommendations emerging from Lobster Summit III fell into five general categories: (1) Build trust between scientists and the fishing industry, (2) Increase collaboration between scientists and fishermen to improve data collection and the dissemination of information, (3) Expand the scope and breadth of the models used to assess the health of lobster stocks, (4) Identify specific data needs, and (5) Improve management decisions. Expanded industry participation in data collection was considered a cost-effective strategy to implement some of these recommendations.

The proposed Juvenile Lobster Trap Survey is a cooperative effort among the NEACD, Maine Department of Marine Resources, the Massachusetts Division of Marine Fisheries, the New Hampshire Department of Fish and Game, NMFS, the Maine Lobstermen’s Association, the DownEast Lobstermen’s Association, the Massachusetts Lobstermen’s Association, the South Shore Lobster Fishermen’s Association, the Boston Harbor Lobstermen’s Cooperative, and the Atlantic Offshore Lobstermen’s Association to more regularly involve fishermen in the data collection process and to create a regional picture of the lobster resource with the ultimate goal of helping to improve lobster stock assessment models.

The Juvenile Lobster Trap Survey is a pilot project that will take place from the fall 2000 through the fall 2001 lobster fishing season. The number of participants coordinated by the NEACD will be limited to approximately 25 fishermen from Massachusetts and New Hampshire. The survey’s co-principal investigators will monitor the quality of the data collection by making site visits and maintaining open communication among all of the participants. If successful, the collaboration will seek funding and EFPs to continue the survey on an annual basis to increase both fishermen’s participation and the geographical scope of the survey.

Fishermen collecting data under this exemption will be subject to the following guidelines:

1. A minimum of two and a maximum of six experimental traps per participant will have disabled escape vents.

2. The test traps (both experimental and control) are included in the participant’s normal set and will not exceed trap number limits.

3. The survey will be limited in scope by requiring participants to collect data only in their declared management areas.

4. The survey will be limited in duration, ranging from late summer 2000 to exactly 12 months from the start date.

5. The experimental traps are standard lobster traps with the escape vent blocked by the following methods: Standard lobster wire mesh attached by biodegradable hog rings, a wooden lath tied over the vents, or twine laced to obscure the vents. The use of these biodegradable materials ensures that, if the escape vent opening is also the escape panel, it will allow lobsters to get out of ghost traps.

6. Each test trap (including the experimental and control traps) will be marked with a unique tag depicting its scientific purpose.

7. Following data collection, all sublegal-sized and illegal (egg-bearing, v-notched) lobsters caught in any test trap will be released immediately.

8. All incidental catch will be handled carefully and immediately returned to sea to decrease mortality.

9. Participants shall not have prior lobster violations/convictions for short lobsters or for possession of berried (lobster-carrying eggs) or scrubbed (i.e., illegal removal of eggs) females.

Any infraction of these conditions or any violation of any marine resources laws would be grounds for the immediate revocation of the EFP.

At the end of each month, participating fishermen will send their data in a postage-paid, return-addressed envelope to the NEACD. Upon the first data mailing, fishermen will also fill out an information card providing a detailed description of their traps, including trap type, dimensions, twine type, hoop sizes, entry hoop diameter, and number of escape vents.

The data will be entered by university interns at the NEACD into a transferable, user-friendly database. A steering committee consisting of leading lobster stock assessment scientists, including NMFS’ Northeast Fisheries Science Center scientists and fishermen from the United States and Canada, will work with the co-principal investigators to monitor how the data are stored, to decide on the format of the summary reports that will be made available to the public, and to evaluate the survey. The NEACD and the steering committee will be responsible only for housing the data, and not for data analysis. This survey is to supply baseline data to fishing associations and resource managers so that they can analyze the data.

This survey would target both legal and sub-legal sized lobsters. Bycatch of Jonah crab, red crab, rock crab, black sea bass and conger eel is anticipated. The proposal projects low incidence of bycatch and low mortality rates for each specified bycatch species.

EFPs would be issued to all Federal fishery permit holders who use the experimental traps, whether in state or Federal waters, and will exempt them from the requirement under § 697.21(c)(1)(i) and (ii) that all lobster traps must contain at least one escape vent with a minimum size of 1-15/16 inches (4.9 cm) by 5-3/4 inches (14.6 cm) or two circular vents that must be at least 2-7/16 inches (6.2 cm) in diameter.

Authority: 16 U.S.C. 1801 et seq.

Dated: September 21, 2000.
Bruce C. Morehead,
Acting Director, Office of Sustainable Fisheries, National Marine Fisheries Service.

[FR Doc. 00-24855 Filed 9-26-00; 8:45 am]

BILLING CODE 3510-22-S